NUCLEAR REGULATORY COMMISSION

[Docket No. 040-07455]

Notice of Availability of Environmental Assessment and Fining of No Significant Impact for License Amendment for Whittaker Corporation's Facility in Greenville, PA

AGENCY: Nuclear Regulatory Commission.

ACTION: Notice of availability.

FOR FURTHER INFORMATION CONTACT: Marjorie McLaughlin, Decommissioning Branch, Division of Nuclear Materials Safety, Region I, 475 Allendale Road, King of Prussia, Pennsylvania 19406, telephone (610) 337-5240, fax (610) 337-5269; or by e-mail: mmm3@nrc.gov.

SUPPLEMENTARY INFORMATION:

I. Introduction

The U.S. Nuclear Regulatory Commission (NRC) is considering the issuance of a license renewal and amendment to Whittaker Corporation for Materials License No. SMA-1018. The proposed action would allow for the continued decontamination and decommissioning of the Whittaker waste storage facility in the Reynolds Industrial Park near Greenville, Pennsylvania. The proposed action also includes NRC approval of site-specific dose concentration guideline levels (DCGLs) for use in developing the Decommissioning Plan for the site. NRC has prepared an Environmental Assessment (EA) in support of this action in accordance with the requirements of 10 CFR Part 51. Based on the EA, the NRC has concluded that a Finding of No Significant Impact (FONSI) is appropriate.

II. EA Summary

The purpose of the action is to renew and amend the NRC license for decontamination and decommissioning (D&D) of the Whittaker waste storage facility in Greenville, Pennsylvania. This action allows for the continued characterization and other decommissioning activities at this site, and approves site-specific DCGLs which will define the cleanup criteria for radioactive contaminants. Whittaker Corporation was authorized by NRC from December 15, 1969, to use radioactive materials for minerals processing purposes at the site. Some of the raw materials used in these processes contained licensable quantities of natural thorium or uranium which were concentrated in the waste byproduct. Processing operations utilizing licensable materials ceased in 1975, and decommissioning activities began. A portion of the site was released for unconditional use in 1985. Whittaker Corporation has been maintaining control over the radioactive materials at the remaining site, while developing a plan for remediation. On May 28, 2004, Whittaker Corporation requested renewal of NRC License No. SMA-1018 to allow for the continued D&D of the site. On August 10, 2004, Whittaker Corporation submitted a Dose Assessment of the site to support the use of proposed DCGLs for site contaminants. The dose assessment shows that the site will meet the dose-based License Termination Rule criteria in 10 CFR 20 Subpart E if the contaminants are remediated to the proposed DCGLs. The DCGLs will be incorporated into the Decommissioning Plan being developed by Whittaker Corporation to describe final site remediation activities. The Decommissioning Plan will also be submitted for approval by the NRC, and will be noticed in the Federal Register separately.

The NRC staff has prepared an EA in support of the license amendment. The NRC staff has reviewed the dose assessment and the procedures and controls submitted by Whittaker Corporation. Based on its review, the staff has determined that the affected environment associated with D&D at the Whittaker Corporation's facility will have no significant environmental impact, and that a Finding of No Significant Impact is appropriate.

III. Finding of No Significant Impact

The staff has prepared the EA (summarized above) in support of the license renewal and amendment to authorize continued D&D of the Whittaker waste storage facility in Greenville, Pennsylvania. On the basis of the EA, the NRC has concluded that there are no significant environmental impacts from the proposed action, and has determined not to prepare an environmental impact statement for the proposed action.

IV. Further Information

Documents related to this action, including the application for the license amendment and supporting documentation, are available electronically at the NRC's Electronic Reading Room at http://www.nrc.gov/reading-rm/adams.html. From this site, you can access the NRC's Agencywide Documents Access and Management System (ADAMS), which provides text and image files of NRC's public documents. The ADAMS accession numbers for the documents related to this Notice are: The Environmental Assessment [ML052440421], Telephone Log Dated 2/17/05 Re. Questions in Support of License Renewal [ML050490050], Deficiency Response Letter [ML050680314], Revision I of Scientech Document No. 82A9534, “Dose Assessment in Support of Establishing Derived Concentration Guideline Levels for the Whittaker Decommissioning Site”, dated August 10, 2004 [ML042310154]. Persons who do not have access to ADAMS or who encounter problems in accessing the documents located in ADAMS, should contact the NRC PDR Reference staff by telephone at (800) 397-4209 or (301) 415-4737, or by e-mail to pdr@nrc.gov.

Documents related to operations conducted under this license not specifically referenced in this Notice may not be electronically available and/or may not be publicly available. Persons who have an interest in reviewing these documents should submit a request to the NRC under the Freedom of Information Act (FOIA). Instructions for submitting a FOIA request can be found on the NRC's Web site at http://www.nrc.gov/reading-rm/foia-privacy.html.

Dated at King of Prussia, Pennsylvania this 9th day of September, 2005.
For the Nuclear Regulatory Commission.
Marie Miller,
Chief, Decommissioning Branch, Division of Nuclear Materials Safety, Region I.

[FR Doc. E5-5084 Filed 9-15-05; 8:45 am]

BILLING CODE 7590-01-P